DEPARTMENT OF DEFENSE

Office of the Secretary

Defense Science Board

AGENCY: Department of Defense.

ACTION: Notice of advisory committee meeting date change.

SUMMARY: On Thursday, September 11, 2003 (68 FR 53597), the Department of Defense announced closed meetings of the Defense Science Board (DSB) Task Force on Patriot Systems Performance. The October 29-30, 2003, meeting has been moved to October 28-29, 2003. The meeting location remains at SAIC, 4001 N. Fairfax Drive, Arlington, VA.

Dated: October 17, 2003.
Patricia L. Toppings,
Alternate OSD Federal Register Liaison Officer, Department of Defense.

[FR Doc. 03-26854 Filed 10-23-03; 8:45 am]

BILLING CODE 5001-08-M